DEPARTMENT OF EDUCATION

Proposed Waiver and Extension of the Project Period for the Literacy Information and Communication System Regional Professional Development Centers

[Catalog of Federal Domestic Assistance (CFDA) Number: 84.191B.]

AGENCY: Career, Technical, and Adult Education, Department of Education.

ACTION: Proposed waiver and extension of the project period.

SUMMARY: For the current 36-month grant projects under the Literacy Information and Communication System (LINCS) Regional Professional Development Centers (RPDC) program, the Secretary proposes to: (1) Waive the restriction against project period extensions involving the obligation of additional Federal funds; and (2) extend for an additional 12 months the project period of these grants. The Secretary proposes this action because we do not believe that it would be in the public interest to hold a LINCS RPDC competition in FY 2014, the same year in which the Department's LINCS Resource Collection contract and the LINCS technical services contract will end. This proposed one-year extension of the LINCS RPDC project period is intended to ensure seamless technical assistance service delivery to our adult education customers.

DATES: We must receive your comments on or before April 11, 2014.

ADDRESSES: Address all comments about this proposed waiver and extension of the project period to Patricia Bennett, U.S. Department of Education, 400 Maryland Avenue SW., Room 11013, Potomac Center Plaza, Washington, DC 20202-7241.

If you prefer to send your comments by email, use the following address: patricia.bennett@ed.gov. You must include the phrase “Proposed waiver and extension of the project period for LINCS RPDCs” in the subject line of your message.

FOR FURTHER INFORMATION CONTACT: Patricia Bennett by telephone at (202) 245-7758 or by email at: patricia.bennett@ed.gov.

If you use a telecommunications device for the deaf (TDD) or a text telephone (TTY), call the Federal Relay Service (FRS), toll free, at 1-800-877-8339.

SUPPLEMENTARY INFORMATION: Invitation to Comment:

We invite you to submit comments regarding this notice. We are particularly interested in receiving comments on the potential impact that this proposed project period waiver and extension might have on current LINCS RPDCs and on potential applicants that would be eligible to apply for grant awards under any new LINCS RPDC notice inviting applications, should there be one.

The following entities would be eligible to apply should the Department conduct a new competition for LINCS RPDCs:

(a) Institutions of higher education;

(b) Public or private nonprofit agencies or organizations; and

(c) Consortia of eligible institutions, organizations, or agencies.

During and after the comment period, you may inspect all public comments about this proposed waiver and extension of the project period in room 11013, Potomac Center Plaza, 550 12th Street SW., Washington, DC, between the hours of 8:30 a.m. and 4:00 p.m., Washington, DC time, Monday through Friday of each week, except Federal holidays.

Assistance to Individuals with Disabilities in Reviewing the Rulemaking Record: On request we will provide an appropriate accommodation or auxiliary aid to an individual with a disability who needs assistance to review the comments or other documents in the public rulemaking record for this notice of proposed waiver and extension of the project period. If you want to schedule an appointment for this type of aid, please contact the person listed under FOR FURTHER INFORMATION CONTACT.

Background

In fiscal year (FY) 2011, using FY 2010 funds, we funded four LINCS RPDC grants, as authorized under title II of the Workforce Investment Act of 1998 (WIA) (20 U.S.C. 9253(2)(H)), the Adult Education and Family Literacy Act (AEFLA). Each RPDC serves one of the following four regions:

(1) Region 1—Connecticut, Delaware, District of Columbia, Maine, Maryland, Massachusetts, New Hampshire, New Jersey, New York, Pennsylvania, Puerto Rico, Rhode Island, Vermont, and the Virgin Islands.

(2) Region 2—Alabama, Arkansas, Florida, Georgia, Kentucky, Louisiana, Mississippi, North Carolina, Oklahoma, South Carolina, Tennessee, Texas, Virginia, and West Virginia.

(3) Region 3—Illinois, Indiana, Iowa, Kansas, Michigan, Minnesota, Missouri, Nebraska, North Dakota, Ohio, South Dakota, and Wisconsin.

(4) Region 4—Alaska, Arizona, California, Colorado, Hawaii, Idaho, Montana, Nevada, New Mexico, Oregon, Utah, Washington, Wyoming, Guam, American Samoa, the Commonwealth of the Northern Mariana Islands, and the Republic of Palau.

Through the LINCS RPDC grants we support evidenced-based virtual or in-person adult education professional development (AEPD) activities to assist educators who provide adult education services ¹ or adult education instruction ² to adult learners (adult educators).

¹ Adult education services (e.g., career counseling, transportation counseling, education counseling) are provided to adult learners by educators who may include staff of eligible providers identified in section 203(5) of the AEFLA, as well as State staff responsible for the implementation of adult education programs.

² Adult education instruction (e.g., instruction in basic literacy, mathematics, and English language skills) is provided to adult learners by educators who may include adult education teachers and other instructional personnel of eligible providers identified in section 203(5) of the AEFLA.

In addition, the LINCS RPDCs support each eligible agency responsible for administering or supervising policy for adult education and literacy programs under section 203(4) of the AEFLA ³ (eligible agency), and adult education and related organizations within each State ⁴ and outlying area ⁵ by—

(1) Disseminating information on the materials and the AEPD in the LINCS Resource Collection ⁶ to each eligible agency in the region that the grantee serves and to adult education and related organizations within each State and outlying area in that region;

³ Section 203(4) of the AEFLA defines the term “eligible agency” as the sole entity or agency in a State or an outlying area responsible for administering or supervising policy for adult education and literacy in the State or outlying area, respectively, consistent with the law of the State or outlying area, respectively.

⁴ See section 203(17) of the AEFLA.

⁵ See section 203(14) of the AEFLA.

⁶ For more information on the LINCS Resource Collection, see http://lincs.ed.gov/collections.

(2) Collaborating closely with eligible agencies to organize and deliver virtual or in-person AEPD; and

(3) Fostering the use of new technologies, including virtual moderated communities of practice ⁷ (CoP), for adult educators.

⁷ Communities of practice are groups of people who share a concern or a passion for something they do and learn how to do it better as they interact regularly (see http://www.ewenger.com/theory/).

The RPDCs provide substantial and direct operational involvement in the management of project implementation and on plans for AEPD and project activities, including by facilitating the collaboration between grantees and the Department's LINCS Resource Collection contractor and the LINCS technical services contractor.

In conducting the required activities under the cooperative agreements, the LINCS RPDCs—

(1) Use the LINCS Resource Collection materials and other AEPD materials available on the Department's LINCS Web site for dissemination and AEPD;

(2) Work collaboratively with the Department's LINCS Resource Collection contractor and the LINCS technical services contractor to meet the project's goals, objectives, and outcomes; and

(3) Implement the requirements established in the notice for applications for new awards for Literacy Information and Communication System Regional Professional Development Centers, published in the Federal Register on June 30, 2011 (76 FR 38374).

For the four current LINCS RPDC grantees the Secretary now proposes to waive the requirement of 34 CFR 75.261(a) and (c)(2) of the Education Department General Administrative Regulations (EDGAR) that generally prohibits project period extensions involving the obligation of additional Federal funds. The Secretary also proposes to extend the current LINCS RPDC project period for 12 months. This will allow each of the four current LINCS RPDC grantees that received awards under the FY 2011 competition to seek a continuation award for one additional year through FY 2015 with FY 2014 funds. Further, the waiver and extension, as proposed, would mean that we would not announce new awards in FY 2014.

Holding an RPDC competition in FY 2014—the same year in which the Department's LINCS Resource Collection contract and the LINCS technical services contract end—would not be in the public interest. Because all of the LINCS service providers would be transitioning at the same time, there would be a disruption to the continuity and stability of services that we provide to adult educators, resulting in a negative impact on service delivery to our adult education customers.

Therefore, to ensure continuity and stability of LINCS services, we plan to hold competitions during FY 2014 for the LINCS Resource Collection contract and the LINCS technology services contract, both new contracts to begin in FY 2015. We then plan to issue in FY 2015 a LINCS RPDC notice inviting applications for new awards for a three-year period to begin in FY 2016. This proposed one-year extension of the LINCS RPDC project period will ensure seamless technical assistance service delivery to our adult education customers.

If the waiver of 34 CFR 75.261(a) and (c)(2) that we propose in this notice is announced by the Department in a final notice, the requirements applicable to continuation awards for current LINCS RPDC grantees and the requirements in section 75.253 of EDGAR would apply to any continuation awards sought by current LINCS RPDC grantees.

If we announce this proposed waiver and extension of the project period as final, we would make continuation awards based on information that each grantee had provided, indicating that it is making substantial progress performing its LINCS RPDC grant activities based on the requirements in the notice inviting applications, and based on the regulations in 34 CFR 75.253.

Any activities to be carried out during the continuation year must be consistent with, or be a logical extension of, the scope, goals, and objectives of each grantee's application as approved in the FY 2011 LINCS RPDC competition. Under this proposed waiver and extension, the project period for current LINCS RPDC grantees would be extended through FY 2015.

Regulatory Flexibility Act Certification

The Secretary certifies that the proposed waiver and extension of the project period and the activities required to support the additional year of funding would not have a significant economic impact on a substantial number of small entities. The small entities that would be affected by this proposed waiver and extension of the project period are the four currently-funded LINCS RPDC grantees and any potential eligible applicants for the LINCS RPDC grants.

The proposed waiver and extension of these current projects would involve minimal compliance costs, and the activities required to support the additional year of funding would not impose additional regulatory burdens or require unnecessary Federal supervision.

Paperwork Reduction Act of 1995

This notice of proposed waiver and extension of the project period does not contain any information collection requirements.

Intergovernmental Review

The LINCS RPDC program is subject to Executive Order 12372 and the regulations in 34 CFR part 79. Information about Intergovernmental Review of Federal Programs under Executive Order 12372 is in the application package for this competition.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 9253(2)(H).

Dated: March 7, 2014.
Brenda Dann-Messier,
Assistant Secretary for Career, Technical, and Adult Education.

[FR Doc. 2014-05431 Filed 3-11-14; 8:45 am]

BILLING CODE 4000-01-P